DEPARTMENT OF HEALTH AND HUMAN SERVICES

Request for Information (RFI) To Identify and Obtain Relevant Information From Public or Private Entities With an Interest in Biovigilance; Extension

AGENCY: Department of Health and Human Services, Office of the Secretary, Office of the Assistant Secretary for Health.

ACTION: Notice.

SUMMARY: This extension of time to respond to the previously published Request For Information (RFI) seeks to provide additional opportunities for potential stakeholders to identify and obtain relevant information regarding the possible development of a public-private partnership (PPP) designed to facilitate the identification of risks and strategies to assure safety of the U.S. supply of blood and blood components, tissues, cells, and organs. The original RFI was published in the Federal Register in Vol. 76, No. 79 on Monday April 25, 2011, titled, “Request for Information (RFI) to Identify and Obtain Relevant Information from Public or Private Entities with an Interest in Biovigilance.” An extension is being provided to all who cannot make the original deadline of June 9, 2011. The extension is until June 30, 2011.

DATES: Responses are encouraged by the original June 9, 2011 deadline; however, if an extension is required it will be provided until June 30, 2011 (4 p.m. EDT). Please notify us if you intend to respond by the extended date (4 p.m. EDT on June 30, 2011 at the address listed below).

ADDRESSES: All responses should be emailed to Biovigilance@hhs.gov (attention Dr. Jerry Holmberg). Please limit responses to 10 pages. Include in the subject line, the following information:

• Name of the institution or site.

• Respondent, title, and full contact information.

FOR FURTHER INFORMATION CONTACT: Dr. Jerry Holmberg, Senior Advisor for Blood Safety, Office of the Assistant Secretary for Health, Office of the Secretary, U.S. Department of Health and Human Services, 1101 Wootton Parkway, Tower Building, Suite 250, Rockville, MD 20852.

Dated: June 2, 2011.
Jerry A. Holmberg,
Senior Advisor for Blood Policy, Executive Secretary of the Advisory Committee Safety and Availability.

[FR Doc. 2011-14124 Filed 6-9-11; 8:45 am]

BILLING CODE 4150-41-M